ENVIRONMENTAL PROTECTION AGENCY

[EPA-HQ-OPPT-2003-0004; FRL-8087-8]

Access to Confidential Business Information by Computer Sciences Corporation's Identified Subcontractors

AGENCY: Environmental Protection Agency (EPA).

ACTION: Notice.

SUMMARY: EPA has authorized subcontractors of its prime contractor, Computer Sciences Corporation of Chantilly, VA access to information which has been submitted to EPA under all sections of the Toxic Substances Control Act (TSCA). Some of the information may be claimed or determined to be Confidential Business Information (CBI).

DATES: Access to the confidential data will occur no sooner than August 22, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@.epa.gov.

For technical information contact: Scott M. Sherlock, TSCA Security Staff, Environmental Assistance Division (7408M), Office of Pollution Prevention and Toxics, Environmental Protection Agency, 1200 Pennsylvania Ave., NW., Washington, DC 20460; telephone number: (202)564-8257; e-mail address: sherlock.scott@epa.gov

SUPPLEMENTARY INFORMATION:

I. General Information

A. Does this Notice Apply to Me?

This action is directed to the public in general. This action may, however, be of interest to those persons who are or may be subject to TSCA reporting requirements. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number EPA-HQ-OPPT-2003-0004. The official public docket consists of the documents specifically referenced in this action, any public comments received, and other information related to this action. Although a part of the official docket, the public docket does not include CBI or other information whose disclosure is restricted by statute.The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in EPA Docket Center, is (202) 566-0280.

2. Electronic access. You may access this Federal Register document electronically through the EPA Internet under the “Federal Register” listings at http://www.epa.gov/fedrgstr/.

II. What Action is the Agency Taking?

Under GSA Contract Number GS00T99ALD0204, Task Order Number T0002AJMZ39, Computer Sciences Corporation (CSC) of 15000 Conference Center Drive, Chantilly, VA and its subcontractors Digital Intelligence Systems Corporation (Disys) of 4151 LaFayette Center Drive, Suite 600, Chantilly, VA; Tek Systems of 7437 Race Road S, Hanover, MD; and Yoh I.T. of 1818 Market Street, Philadelphia, PA, will assist the Office of Pollution Prevention and Toxics (OPPTS) in computer operations and maintenance of TSCA CBI Computer Systems and Communications Network, linking CBI sites, located in Washington, DC. CSC and its subcontractors will also assist in maintaining and operating the EPA CBI computer facilities located in Research Triangle Park, NC.

In accordance with 40 CFR 2.306(j), EPA has determined that under GSA Contract Number GS00T99ALD0204, Task Order Number T0002AJMZ39, CSC and its subcontractors will require access to CBI submitted to EPA Under all sections of TSCA, to perform successfully the duties specified under the contract.

CSC and its subcontractor personnel will be given access to information submitted to EPA under all sections of TSCA. Some of the information may claimed or determined to be CBI.

EPA is issuing this notice to inform all submitters of information under all sections of TSCA that the Agency may provide CSC and its subcontractors access to these CBI materials on a need-to- know basis only. All access to TSCA CBI under this contract will take place at EPA Headquarters and Research Triangle Park, NC facilities. CSC and its subcontract personnel will be required to adhere to all provisions of EPA's TSCA Confidential Business Information Security Manual.

Clearance for access to TSCA CBI under GSA Contract Number GS00T99ALD0204, Task Order Number T0002AJMZ39 may continue until September 30, 2007.

CSC's subcontractors and subcontract personnel will be required to sign non-disclosure agreements and be briefed on appropriate security procedures before they are permitted access to the CBI.

List of Subjects

Environmental protection, Confidential business information.

Dated: August 7, 2006.
Brion Cook,
Director, Information Management Division, Office of Pollution Prevention and Toxics.

[FR Doc. E6-13348 Filed 8-14-06; 8:45 am]

BILLING CODE 6560-50-S